POSTAL SERVICE

Changes in Domestic Mail Classifications

AGENCY: Postal Service.

ACTION: Notice of implementation of changes to the Domestic Mail Classification Schedule.

SUMMARY: This notice sets forth the changes to the Domestic Mail Classification Schedule to be implemented as a result of the Decision of the Governors of the United States Postal Service on the Opinion and Recommended Decision of the Postal Rate Commission Approving Stipulation and Agreement on Experimental Periodicals Co-palletization Dropship Discounts for High Editorial Publications, Docket No. MC2004-1. The attachment also reflects the changes resulting from the first co-palletization case, Docket No. MC2002-3.

EFFECTIVE DATE: October 3, 2004.

FOR FURTHER INFORMATION CONTACT: Daniel J. Foucheaux, Jr., (202) 268-2989.

SUPPLEMENTARY INFORMATION: On February 25, 2004, the United States Postal Service, in conformance with sections 3622 and 3623 of the Postal Reorganization Act (39 U.S.C. 101 et seq.), filed a request for a recommended decision by the Postal Rate Commission (PRC) on the establishment of experimental Periodicals co-palletization dropship discounts for high-editorial, heavy-weight, small-circulation publications. The PRC designated this filing as Docket No. MC2004-1. On July 7, 2004, pursuant to 39 U.S.C. 3624, the PRC issued to the Governors of the Postal Service its Opinion and Recommended Decision Approving Stipulation and Agreement, in Docket No. MC2004-1. The PRC recommended the establishment of the Postal Service proposal for experimental Periodicals co-palletization dropship discounts for high editorial publications.

Pursuant to 39 U.S.C. 3625, the Governors of the United States Postal Service acted on the PRC's recommendations on July 19, 2004. In the Decision of the Governors of the United States Postal Service on the Opinion and Recommended Decision of the Postal Rate Commission Approving Stipulation and Agreement on Experimental Periodicals Co-palletization Dropship Discounts for High Editorial Publications, Docket No. MC2004-1, the Governors of the Postal Service approved the recommended decision. In accordance with Resolution 04-5, the Board of Governors established an implementation date of October 3, 2004, on which the approved classification changes and discounts for the co-palletization experiment take effect. The attachments to the Governors' Decision, setting forth the classification changes ordered into effect by the Governors, are set forth below.

In accordance with the Decision of the Governors and Resolution No. 04-5 of the Board of Governors, the Postal Service hereby gives notice that the classification changes set forth below will become effective at 12:01 a.m. on October 3, 2004.

Attachments to the Decision of the Governors of the United States Postal Service on the Opinion and Recommended Decision of the Postal Rate Commission Approving Stipulation and Agreement on Experimental Periodicals Co-palletization Dropship Discounts for High Editorial Publications, Docket No. MC2004-1

(Additions underlined; deletions in brackets)

BILLING CODE 7710-12-P

Stanley F. Mires,
Chief Counsel, Legislative.

[FR Doc. 04-22285 Filed 10-4-04; 8:45 am]

BILLING CODE 7710-12-C